NUCLEAR REGULATORY COMMISSION

[Docket Nos. 50-461, 50-346, 50-354, 50-272, 50-311, 50-528, 50-529, and 50-530; NRC-2020-0110]

Issuance of Multiple Exemptions in Response to COVID-19 Public Health Emergency

AGENCY: Nuclear Regulatory Commission.

ACTION: Exemptions; issuance.

SUMMARY: The U.S. Nuclear Regulatory Commission (NRC) issued five exemptions in response to requests from four licensees for relief due to the coronavirus 2019 disease (COVID-19) public health emergency (PHE). The exemptions afford these licensees temporary relief from certain requirements under NRC regulations. The NRC is issuing a single notice to announce the issuance of the exemptions.

DATES: During the period from January 7, 2022, to January 21, 2022, the NRC granted five exemptions in response to requests submitted by four licensees from January 5, 2022, to January 19, 2022.

ADDRESSES: Please refer to Docket ID NRC-2020-0110 when contacting the NRC about the availability of information regarding this document. You may obtain publicly available information related to this document using any of the following methods:

• Federal Rulemaking Website: Go to https://www.regulations.gov and search for Docket ID NRC-2020-0110. Address questions about Docket IDs in Regulations.gov to Stacy Schumann; telephone: 301-415-0624; email: Stacy.Schumann@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. For the convenience of the reader, instructions about obtaining materials referenced in this document are provided in the “Availability of Documents” section.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. (ET), Monday through Friday, except Federal holidays.

FOR FURTHER INFORMATION CONTACT: James Danna, Office of Nuclear Reactor Regulation, U.S. Nuclear Regulatory Commission, Washington, DC 20555-0001; telephone: 301-415-7422, email: James.Danna@nc.gov.

SUPPLEMENTARY INFORMATION:

I. Introduction

During the period from January 7, 2022, to January 21, 2022, the NRC granted five exemptions in response to requests submitted by four licensees from January 5, 2022, to January 19, 2022. These exemptions temporarily allow the licensees to deviate from certain requirements of chapter 1 of title 10 Code of Federal Regulations (10 CFR), part 26, “Fitness for Duty Programs,” section 26.205, “Work hours.”

The exemptions from certain requirements of 10 CFR part 26 for Exelon Generation Company, LLC (for Clinton Power Station, Unit No. 1); for Energy Harbor Nuclear Corp. (for Davis-Besse Nuclear Power Station, Unit No. 1); for PSEG Nuclear LLC (for Hope Creek Generating Station and Salem Nuclear Generating Station, Unit Nos. 1 and 2); and for Arizona Public Service Company (for Palo Verde Nuclear Generating Station, Units 1, 2, and 3) afford these licensees temporary relief from the work-hour control requirements under 10 CFR 26.205(d)(1) through (d)(7). The exemptions from 10 CFR 26.205(d)(1) through (d)(7) ensure that the control of work hours and management of worker fatigue does not unduly limit licensee flexibility in using personnel resources to most effectively manage the impacts of the COVID-19 PHE on maintaining the safe operation of these facilities. Specifically, these licensees have stated that their staffing levels are affected or are expected to be affected by the COVID-19 PHE, and they can no longer meet or likely will not meet the work-hour controls of 10 CFR 26.205(d)(1) through (d)(7). These licensees have committed to effecting site-specific administrative controls for COVID-19 PHE fatigue-management for personnel specified in 10 CFR 26.4(a).

The tables in this notice provide transparency regarding the number and type of exemptions the NRC has issued. Additionally, the NRC publishes tables of approved regulatory actions related to the COVID-19 PHE on its public website at https://www.nrc.gov/about-nrc/covid-19/reactors/licensing-actions.html.

II. Availability of Documents

The tables in this notice provide the facility name, docket number, document description, and ADAMS accession number for each exemption issued. Additional details on each exemption issued, including the exemption request submitted by the respective licensee and the NRC's decision, are provided in each exemption approval listed in the tables in this notice. For additional directions on accessing information in ADAMS, see the ADDRESSES section of this document.

Document description | ADAMS accession No.
Clinton Power Station, Unit No. 1
Docket No. 50-461
Clinton Power Station, Unit No. 1—COVID-19 Related Request for Exemption from part 26 Work Hours Requirements, dated January 13, 2022 | ML22014A005
Clinton Power Station, Unit No. 1—Exemption from Specific Requirements of 10 CFR part 26 (EPID L-2022-LLE-0003 [COVID-19]), dated January 14, 2022 | ML22013B277
Davis-Besse Nuclear Power Station, Unit No. 1
Docket No. 50-346
Davis-Besse Nuclear Power Station, Unit No. 1—COVID-19 Related Request for Exemption from part 26 Work Hours Requirements, dated January 12, 2022 | ML22012A301
Davis-Besse Nuclear Power Station, Unit No. 1—Response to Request for Additional Information Related to Request for Exemption from Specific Requirements of 10 CFR 26, “Fitness for Duty Programs” [COVID-19], dated January 13, 2022 | ML22013B175
Davis-Besse Nuclear Power Station, Unit No. 1—Exemption from Specific Requirements of 10 CFR part 26, (EPID L-2022-LLE-0002 [COVID-19]), dated January 14, 2022 | ML22012A399
Hope Creek Generating Station
Docket No. 50-354
Salem Nuclear Generating Station, Unit Nos. 1 and 2
Docket Nos. 50-272 and 50-311
Hope Creek Generating Station and Salem Generating Station, Unit Nos. 1 and 2—Request for Exemption from Specific Requirements of 10 CFR part 26, “Fitness for Duty Programs,” dated January 5, 2022 | ML22005A364
Hope Creek Generating Station and Salem Generating Station, Unit Nos. 1 and 2—Exemption from Specific Requirements of 10 CFR part 26, (EPID L-2022-LLE-0000 [COVID-19]), dated January 7, 2022 | ML22005A323
Palo Verde Nuclear Generating Station, Units 1, 2, and 3
Docket Nos. 50-528, 50-529, and 50-530
Palo Verde Nuclear Generating Station, Units 1, 2, and 3—COVID-19 Related Request for Exemption from part 26 Work Hours Requirements, dated January 19, 2022 | ML22020A017
Palo Verde Nuclear Generating Station, Units 1, 2, and 3—Request for Exemption from Specific Requirements of 10 CFR part 26 (EPID L-2022-LLE-0005 [COVID-19]), dated January 21, 2022 | ML22020A040

Dated: February 15, 2022.
For the Nuclear Regulatory Commission.
James G. Danna,
Chief, Plant Licensing Branch I, Division of Operating Reactor Licensing, Office of Nuclear Reactor Regulation.

[FR Doc. 2022-03589 Filed 2-17-22; 8:45 am]

BILLING CODE 7590-01-P